ENVIRONMENTAL PROTECTION AGENCY

[FRL-7471-5]

Science Advisory Board; Notification of Public Advisory Committee; Meeting; Executive Committee Teleconference

AGENCY: Environmental Protection Agency (EPA).

ACTION: Notice.

SUMMARY: The Environmental Protection Agency (EPA), Science Advisory Board (SAB) Executive Committee (EC), a Federal Advisory Committee, will hold a public teleconference meeting on the date and time given below to review the SAB draft report on its review of the Fiscal Year 2004 Science and Technology Budget.

DATES: The conference call meeting will take place on Thursday, April 10, 2003, from 12 noon to 1 p.m.(e.s.t.). Requests for oral comments, as well as submission of written comments must be received by April 4, 2003. Please see further details below.

ADDRESSES: The conference call will take place via telephone only.

FOR FURTHER INFORMATION CONTACT: Any member of the public wishing further information concerning this meeting or wishing to submit comments must contact Mr. A. Robert Flaak, Designated Federal Officer, EPA Science Advisory Board (1400A), U.S. Environmental Protection Agency, 1200 Pennsylvania Avenue, NW., Washington, DC 20460; telephone (202) 564-4546; Fax (202) 501-0582; or via e-mail at flaak.robert@epa.gov.

To pre-register for the teleconference and obtain the phone number and access code, please contact Ms. Betty Fortune, EPA Science Advisory Board, Mail Code 1400A, U.S. Environmental Protection Agency, 1200 Pennsylvania Avenue, NW., Washington, DC 20460; telephone (202) 564-4533, Fax (202) 501-0323; or via e-mail at: fortune.betty@epa.gov.

SUPPLEMENTARY INFORMATION: 1. Summary: Pursuant to the Federal Advisory Committee Act, Public Law 92-463, notice is hereby given that the EC of the U.S. EPA Science Advisory Board (SAB) will hold a public teleconference meeting to review a report of one of its subcommittees. The interested public may attend through a telephonic link, to the extent that lines are available. Pre-registration is necessary. Additional instructions about how to participate in the conference are given below.

In this meeting, the EC plans to review a report from its Science and Technology Review Panel (S&TRP) (EC) -Review of the FY2004 Science and Technology (S&T) Budget: An SAB Report. The background materials used by the Review Panel in its original deliberations are available from the originating EPA Office, (for further information see 67 FR 79912, December 31, 2002, http://www.epa.gov/fedrgstr/EPA-MEETINGS/2002/December/Day-31/m32987.htm.)

General information about the EPA Science Advisory Board, may be found on the SAB Web site (http://www.epa.gov/sab).

2. Requests for Comment: Requests for oral comments must be in writing (e-mail, fax or mail) and received by Mr. Flaak no later than noon eastern standard time on April 4, 2003. Written comments should also be sent to Mr. Flaak prior to the meeting. Submission of written comments by e-mail to Mr. Flaak will maximize the time available for review by the EC.

3. Availability of Review Materials: A draft of the SAB report listed above will be available to the public at the SAB Web site under the heading for the EC Public Teleconference, April 10, 2003, (http://www.epa.gov/sab/whatsnew.htm) approximately one week prior to the meeting.

4. Charge to the Executive Committee: The focus of the EC review of this report will be on the following questions: (a) Has the SAB adequately responded to the questions posed in the charge? (b) Are the statements and/or responses in the draft report clear? And (c) are there any errors of fact in the report?

5. General Guidance on Providing Oral or Written Comments at SAB Meetings: It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of 10 minutes (unless otherwise indicated above). For teleconference meetings, opportunities for oral comment will usually be limited to no more than three minutes per speaker and no more than 15 minutes total. Deadlines for getting on the public speaker list for a meeting are given above. Speakers should bring at least 35 copies of their comments and presentation slides for distribution to the reviewers and public at the face-to-face meetings. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend face-to-face meeting are also asked to bring 35 copies of their comments for public distribution.

Dated: March 17, 2003.
Vanessa T. Vu,
Director, EPA Science Advisory Board Staff Office.

[FR Doc. 03-6819 Filed 3-20-03; 8:45 am]

BILLING CODE 6560-50-P